ENVIRONMENTAL PROTECTION AGENCY

40 CFR Parts 60, 63, 85, 90, 1048, 1065, and 1068

[EPA-HQ-OAR-2005-0030, FRL-8176-1]

RIN 2060-AM81 and 2060-AN62

Standards of Performance for Stationary Spark Ignition Internal Combustion Engines and National Emission Standards for Hazardous Air Pollutants for Reciprocating Internal Combustion Engines

Correction

In proposed rule document 06-4919 beginning on page 33804 in the issue of Monday, June 12, 2006, make the following corrections:

1. On page 33808, in Table 1, in the table heading, in the first line, “>19” should read “≤19”.

2. On page 33809, in Table 3, in the second column, in the third entry, “HP≤500” should read “HP≥500”.

3. On the same page, in the same table, in the same column, in the fifth entry, “HP≥500” should read “HP<500”.

4. On pages 33810 and 33811, Table 4 is being reprinted in its entirety to read as follows:

Table 4.—Emission Standards for Stationary RICE ≤500 HP Located at Major Sources of HAP Emissions and Stationary RICE Located at Area Sources of HAP Emissions
Engine type and fuel | Maximum engine power | Manufacture date ᵃ | Emission standards
Existing All Fuels and All Types | All Sizes | No Emission Reduction.
New/Reconstructed SI | ≤25 HP | January 1, 2008 | Meet 40 CFR part 60 subpart JJJJ.
New/Reconstructed SI Gasoline and Rich Burn LPG | 25<HP<500 HP≥500 | January 1, 2008 July 1, 2007 | Meet 40 CFR part 60 subpart JJJJ.
New/Reconstructed Non-Emergency SI Natural Gas | 25<HP<500 ᵃ | January 1, 2008 | 1.0 g/HP-hr NMHC.
and
New/Reconstructed Non-Emergency SI Lean Burn LPG ᵇ |  | January 1, 2011 | 0.7 g/HP-hr NMHC.
New/Reconstructed Non-Emergency SI Natural Gas | HP≥500 | July 1, 2007 | 1.0 g/HP-hr NMHC
and
New/Reconstructed Non-Emergency SI Lean Burn LPG |  | July 1, 2010 | 0.7 g/HP-hr NMHC.
New/Reconstructed Non-Emergency SI 4SLB at Major Sources (except landfill and digester gas) ᵇ | 250<HP ≤500 | January 1, 2008 | 93% CO Reduction or 14 ppmvd formaldehyde.
CI All Fuels | All Sizes | 2007+ Model Year | Meet 40 CFR part 60 subpart IIII.
Landfill/Digester Gas | HP<500 HP≥500 | January 1, 2008 July 1, 2007 | 1.0 g/HP-hr NMHC. 1.0 g/HP-hr NMHC.
Emergency SI | All Sizes | January 1, 2009 | 1.0 g/HP-hr NMHC.
ᵃ Stationary SI natural gas and lean burn LPG engines between 19 and 37 KW (25 and 50 HP) may comply with the requirements of Table 2 of this preamble, instead of this table, as applicable.
ᵇ New and reconstructed non-emergency 4SLB engines at major sources with a site rating between 250 and 500 HP are not required to meet the 1.0 and 0.7 g/HP-hr NMHC emission standards.

Table 3 to Subpart ZZZZ of Part 63 [Corrected]

5. On page 33844, in Table 3 to Subpart ZZZZ of Part 63, in the table heading, in the second line,“>500 HP” should read “≤500 HP”.

6. On page 33845, in the same table, in the table heading, in the second line,“>500 HP” should read “≤500 HP”.

[FR Doc. C6-4919 Filed 6-23-06; 8:45 am]

BILLING CODE 1505-01-D